DEPARTMENT OF COMMERCE

National Oceanic and Atmospheric Administration

RIN 0648-XI83

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the University of New England (UNE) and the New England Aquarium (NEA) contains all of the required information and warrants further consideration. The Assistant Regional Administrator has made a preliminary determination that the activities authorized under this EFP would be consistent with the goals and objectives of the Northeast (NE) Skate Complex and NE Multispecies Fishery Management Plans (FMPs). However, further review and consultation may be necessary before a final determination is made to issue an EFP. Therefore, NMFS announces that the Assistant Regional Administrator proposes to recommend that an EFP be issued that would allow two commercial fishing vessels to conduct fishing operations that are otherwise restricted by the regulations governing the fisheries of the Northeastern United States. This EFP, which would enable researchers to study the immediate and short-term post-release mortality of skates, would grant exemptions from the regulations as follows: Retaining, possessing, or landing prohibited skate species, and skate possession limits for sampling purposes.

Regulations under the Magnuson-Stevens Fishery Conservation and Management Act require publication of this notification to provide interested parties the opportunity to comment on applications for proposed EFPs.

DATES: Comments must be received on or before July 23, 2008.

ADDRESSES: You may submit written comments by any of the following methods:

• Email: DA8-145@noaa.gov. Include in the subject line “Comments on UNE/NEA skate bycatch mortality EFP.”

• Mail: Patricia A. Kurkul, Regional Administrator, NMFS, NE Regional Office, 1 Blackburn Drive, Gloucester, MA 01930. Mark the outside of the envelope “Comments on UNE/NEA skate bycatch mortality EFP, DA8-145.”

• Fax: (978) 281-9135.

FOR FURTHER INFORMATION CONTACT: Emily Bryant, Fishery Management Specialist, 978-281-9244.

SUPPLEMENTARY INFORMATION: An application for an EFP was submitted on June 12, 2008, by Dr. James Sulikowski, from the Marine Science Center of UNE, for a project funded by the NOAA Saltonstall-Kennedy Grant Program. The primary goal of this project is to provide data to determine the immediate and short-term survivability of winter, smooth, little, and thorny skates. This research could provide valuable information for future skate management objectives. Results will be provided to the Northeast Fisheries Science Center and the New England Fishery Management Council. Researchers will also disseminate results to a public audience at the NEA to increase awareness of skate conservation.

Since the stocks of these species are at or near overfished biomass thresholds, and winter and little skates are subject to directed fisheries, research on bycatch mortality of these species is needed. In order to conduct this research, the principal investigators have requested an exemption from possessing and handling prohibited skate species. Additionally, an exemption from skate possession restrictions would authorize project investigators to temporarily possess fish for scientific data collection purposes prior to returning all fish to the sea.

Two vessels would each conduct 50 trips in conjunction with commercial days-at-sea (DAS) trips, with one vessel fishing with commercial otter trawl gear and the other fishing with commercial gillnets. Both vessels would use standard commercial gear. Tows would vary in time among 30, 60, and 120 minutes to account for variations in tow duration that occur under normal fishing conditions. Gillnet soak times would vary but not exceed 24 hr. Two fishing trials would be conducted. The first would occur from September through November 2008. The second would occur from March through May 2009. Research would occur in the inshore and offshore waters off of New Hampshire and southern Massachusetts. These areas support the vast majority of skate landings that can also be accessed during normal fishing operations. All fishing would occur as day trips, and no fishing would occur in closed areas or during rolling closures. Only winter, thorny, smooth and little skates would be used for scientific research purposes. Northeast multispecies would be landed and sold, up to the current DAS possession limits.

The researchers propose fishing a total of 100 sea days; 50 days fishing with gillnet gear and 50 fishing with trawl gear. In other words, each vessel would fish for 25 days during each of the 2 trials (fall and spring). The objective is to assess at least 300 specimens of each of the 4 skate species per season, for a total 1,200 specimens per season, and 2,400 specimens for the entire project. The researchers plan to stagger trials in order to both deploy and retrieve pens on a given day, thus maximizing the number of trials that can be conducted in the proposed number of sea days.

In order to identify possible influences on discard mortality, the following variables would be recorded: Deck-time, season (fall, spring), depth of fishing, air and bottom seawater temperatures, estimated weight of catch, the total length and gender of skates, and handling techniques (e.g., picked or not picked; duration of deck exposure). When catch is hauled aboard, all skates would be tagged with spaghetti tags. Skates would either be immediately placed into a live well by one of the handling methods (without a pick or with a pick) or remain on the deck for 15 and 30 minutes before being transferred to live wells. While in the wells, specimens would be visually assessed. Any specimens that die prior to placement within a net pen would be placed on ice for subsequent necropsy.

Viable skates would be placed in experimental holding pens to be submerged and deployed to the seafloor for 72-hour trials. A total of 8 net pens would be used, with 20 to 40 skates in each pen. The modified basic shape would form a three-dimensional hexagon with each of the six rectangular sides measuring 5 ft (height) x 6 ft (length). Two PVC skeletons would be used for the bottom and top of each pen. Six vertical sections 5 feet in height would support the structure. The netting covering the pen would consist of 3 or 4-inch diamond mesh tetra twine. The base of each pen would be filled and weighted down with a heavy composite and would be affixed to the seafloor by 2 or 3 40-pound mushroom anchors to reduce the likelihood of pen rollover. Pens would be maneuvered in the water column using bridles secured to whale-safe swivels connected to a main tag line. Each pen would be marked at the surface with a highflyer and buoy.

In order to conduct control trials, UNE proposes to capture a few skates by handlines. If it proves to be unfeasible to capture enough skates by this method to make a statistically robust number of trials, vessels would conduct abbreviated trawls (e.g., 5-minute tows) to obtain minimally stressed controls.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 1, 2008.
Emily H. Menashes
Acting Director, Office of Sustainable Fisheries, National Marine Fisheries Service.

[FR Doc. E8-15375 Filed 7-7-08; 8:45 am]

BILLING CODE 3510-22-S